ENVIRONMENTAL PROTECTION AGENCY

[ER-FRL-6614-1]

Environmental Impact Statements; Notice of Availability

Responsible Agency: Office of Federal Activities, General Information (202) 564-7157 or www.epa.gov/oeca/ofa

Weekly receipt of Environmental Impact Statements

Filed December 18, 2000 Through December 22, 2000

Pursuant to 40 CFR 1506.9.

EIS No. 000456, DRAFT EIS, AFS, AK, Cholmondeley Timber Sales, Implementation, Harvesting Timber, Tongass Forest Plan, Tongass National Forest, Craig Ranger District, West of Ketchikan and South of Prince of Wales Island, AK, Due: February 19, 2001, Contact: Dale Kanen (907) 826-3271.

EIS No. 000457, DRAFT EIS, NPS, TX, Fort Davis National Historic Site, General Management Plan, Implementation, Fort Davis, TX, Due: March 05, 2001, Contact: Jerry R. Yarbrough (915) 426-3225.

EIS No. 000458, FINAL EIS, AFS, WY, Bridger-Teton National Forest, Oil and Gas Leasing in Management Areas: 21-Hoback Basin; 45 Moccasin Basin; 71 Union Pass and 72 Upper Basin River, Fremont, Sublette and Teton Counties, WY, Due: February 28, 2001, Contact: Richard Anderson (307) 739-5558.

EIS No. 000459, DRAFT EIS, IBR, CA, Grassland Bypass Project (2001 Use Agreement), To Implement the New Use Agreement for the period from October 1, 2001 through December 21, 2009, San Joaquin River and Merced River, Fresno, Merced and Stanislaus Counties, CA, Due: February 27, 2001, Contact: Michael Delamore (559) 487-5039.

EIS No. 000460, DRAFT EIS, GSA, OR, Eugene/Springfield New Federal Courthouse, Construction, Lane County, OR, Due: October 30, 2000, Contact: Michael Levine (253) 931-7263.

Due to an Administrative Error by the U.S. General Services Administration, the above Draft EIS was not properly filed with the U.S. Environmental Protection Agency. GSA has confirmed that distribution of the DEIS was made available to all federal agencies and interested parties for the 45-day review period. For further information contact Mr. Michael Levine at (253)931-7263.

EIS No. 000461, FINAL EIS, GSA, OR, Eugene/Springfield New Federal Courthouse, Construction, Lane County, OR, Due: January 29, 2001, Contact: Michael Levine (253) 931-7263.

EIS No. 000462, DRAFT SUPPLEMENT, IBR, CA, San Joaquin River Agreement Project, Updated and New Information, The Acquisition of Additional Water for Meeting the San Joaquin River Agreement Flow Objectives, 2001-2010, Vernalis Adaptive Management Plan (VAMP), Mariposa, Merced, San Joaquin and Stanislaus Counties, CA, Due: February 12, 2001, Contact: John Burke (916) 978-5556.

EIS No. 000463, DRAFT SUPPLEMENT, FHW, IL, FAP Route 340 (I-355 South Extension), Interstate Rout 55 to Interstate Route 80, Additional Information for the Tollroad/Freeway Alternative, Funding, US Coast Guard Permit and COE Section 404 Permit, Cook, DuPage and Will Counties, IL, Due: February 28, 2001, Contact: Jon-Paul Kohler (217) 492-4988.

EIS No. 000464, DRAFT EIS, NOA, WA, Anadromous Fish Agreements and Habitat Conservation Plans for the Wells, Rocky Reach, and Rock Island Hydroelectric Projects, Implementation, Incidental Take Permits, Chelan and Douglas Counties, WA, Due: February 19, 2001, Contact: Bob Dach (503) 736-4734.

Amended Notices

EIS No. 000429, FINAL EIS, AFS, ID, Brownlee Vegetation and Access Management Project, Implementation, Weiser Ranger District, Payette National Forest, Washington County, ID , Due: January 22, 2001, Contact: John Baglien (208) 549-4200. Revision of FR notice published on 12/15/2000: CEQ Comment Date has been Extended from 01/16/2001 to 01/22/2001.

EIS No. 000445, FINAL EIS, AFS, WA, ID, OR, MT, Interior Columbia Basin Ecosystem Management Projects, Updated and New Information on Three Management Alternatives, Implementation, WA, OR, ID and MT, Due: January 16, 2001, Contact: Susan Giannettino (208) 334-1770. Published FR 12-15-00 Correction to Title.

Dated: December 26, 2000.
B. Katherine Biggs,
Associate Director, NEPA Compliance Division, Office of Federal Activities.

[FR Doc. 00-33367 Filed 12-28-00; 8:45 am]

BILLING CODE 6560-50-P